DEPARTMENT OF AGRICULTURE

Agricultural Research Service

Notice of Intent To Seek Public Comment

AGENCY: National Agricultural Library, Agricultural Research Service, USDA.

ACTION: Notice of issuance of a report for public comment.

SUMMARY: In accordance with the Federal Advisory Committee Act, the National Agricultural Library, Agricultural Research Service, USDA has issued the task force “Report on the National Agricultural Library 2001” for public comment. Comments received will be reviewed by the National Agricultural Research, Education, Extension and Economics Advisory Board and considered in the development of specific recommendations to the Department for the future management of the National Agricultural Library.

DATES: Submit comments September 16, 2002. Comments received after this date will be considered if it is practical to do so, but the USDA is able to ensure consideration only for comments received on or before this date.

ADDRESSES: Address all comments concerning this notice to Dr. Susan McCarthy, Technical Information Specialist, USDA, ARS, National Agricultural Library, 10301 Baltimore Avenue, Room 203, Beltsville, MD 20705-2351. Submit electronic comments to comments@nal.usda.gov. Copies of the Report can be obtained through the NAL Home Page address: http://www.nal.usda.gov/brp/ and are also available for on-site review in the Reading Room of the National Agricultural Library, Beltsville, MD.

FOR FURTHER INFORMATION CONTACT: Susan McCarthy, Phone: 301-504-5510, or FAX: 301-504-6951, or by E-mail: smccarth@nal.usda.gov, please reference this Notice in the subject line.

SUPPLEMENTARY INFORMATION: The task force “Report on the National Agricultural Library 2001” is being issued for a 30-day public comment period. The report represents the work of a task force to assess the National Agricultural Library (NAL) in pursuit of its legislated mandate to serve as the chief agricultural information resource of the United States (“Food, Agriculture, Conservation and Trade Act of 1990” codified at 7 USCS 3125a). The task force conducted an extensive study of the mission, management, programs and operations of the NAL. The study included stakeholder surveys, comparisons with other national library operations, and internal reviews. Through this report the task force laid the foundation for substantiative recommendations to the Department for the long-term management of NAL, an important information resource for the food, fiber, and agriculture enterprise. Information received through the public comment process will assist the National Agricultural Research, Education, Extension, and Economics Advisory Board (NAREEE Advisory Board) to develop recommendations for the Department of Agriculture to guide the future management of the NAL. The NAREEE Advisory Board is the official advisory board for USDA's Research, Extension, and Economics Mission Area and is able to provide consensus recommendations to the Department based on public input.

Specifically, USDA is seeking information through comments on the “Report of the National Agricultural Library 2001” regarding the preliminary recommendations issued in the Report. The recommendations relate to issues of: innovation in information services; organizational structure; planning and evaluation processes; and leadership. In addition, comments are sought on behalf of the comprehensive information support system needed for an efficient and robust food, fiber, and agriculture enterprise. Comments are sought on the need to create critical information services and programs not currently provided; or to cease redundant or nonessential services and programs. All responses to this notice will be summarized and provided to the NAREEE Advisory Board for consideration in the development of recommendations to the Department of Agriculture. All comments will become a matter of public record.

Authority: 41 CFR Parts 101-6 and 102-3 Federal Advisory Committee Management; Final Rule.

Dated: August 8, 2002.
Caird E. Rexroad,
Acting Associate Administrator.

[FR Doc. 02-20881 Filed 8-15-02; 8:45 am]

BILLING CODE 3410-03-P